DEPARTMENT OF STATE

[Public Notice 11503]

Certification Related to Foreign Military Financing for Colombia Under Regulations of the Department of State, Foreign Operations, and Related Programs Appropriations Act, 2021

Pursuant to the authority vested in the Secretary of State, including under section 7045(b)(2)(B) of the Department of State, Foreign Operations, and Related Programs Appropriations Act, 2021 (Div. K, Pub. L. 116-260), I hereby certify that:

(i) The Special Jurisdiction for Peace and other judicial authorities are taking effective steps to hold accountable perpetrators of gross violations of human rights in a manner consistent with international law, including for command responsibility, and sentence them to deprivation of liberty;

(ii) the Government of Colombia is taking effective steps to prevent attacks against human rights defenders and other civil society activists, trade unionists, and journalists, and judicial authorities are prosecuting those responsible for such attacks;

(iii) the Government of Colombia is taking effective steps to protect Afro-Colombian and indigenous communities and is respecting their rights and territory;

(iv) senior military officers responsible for ordering, committing, and covering up cases of false positives are being held accountable, including removal from active duty if found guilty through criminal or disciplinary proceedings; and

(v) the Government of Colombia has investigated and is taking steps to hold accountable Government officials credibly alleged to have directed, authorized, or conducted illegal surveillance of political opponents, government officials, journalists, and human rights defenders, including through the use of assets provided by the United States for combating counterterrorism and counternarcotics for such purposes.

This Certification shall be published in the Federal Register and shall be transmitted, along with the accompanying Memorandum of Justification, to Congress.

Dated: July 29, 2021.
Antony J. Blinken,
Secretary of State.

[FR Doc. 2021-17755 Filed 8-18-21; 8:45 am]

BILLING CODE 4710-29-P